DEPARTMENT OF INTERIOR

Bureau of Land Management

DEPARTMENT OF AGRICULTURE

Forest Service

[LLUT070 L13200000 EL0000 24 1A00]

Notice of Availability of the Draft Environmental Impact Statement for the Leasing and Underground Mining of the Greens Hollow Coal Lease Tract, Sanpete and Sevier Counties, UT

AGENCY: Bureau of Land Management, Interior and Forest Service, Agriculture.

ACTION: Notice of availability.

SUMMARY: In accordance with the National Environmental Policy Act of 1969 (NEPA, 42 U.S.C. 4321 et seq.), the Bureau of Land Management (BLM) has prepared a Draft Environmental Impact Statement (DEIS) for the Leasing and Underground Mining of the Greens Hollow Coal Lease Tract, Sanpete and Sevier Counties, Utah and by this Notice is announcing the opening of the comment period.

DATES: To ensure comments will be considered, the BLM must receive written comments on the Leasing and Underground Mining of the Greens Hollow Coal Lease Tract, Sanpete and Sevier Counties, Utah DEIS within 45 days following the date the Environmental Protection Agency publishes the Notice of Availability in the Federal Register. The BLM will announce future meetings or hearings and any other public involvement activities at least 14 days in advance through public notices, media news releases, and/or mailings.

ADDRESSES: You may submit comments by any of the following methods:

E-mail: UT_PR_Comments2@BLM.gov.

Fax: (435) 636-3657.

Mail: Bureau of Land Management, Price Field Office, 125 South 600 West, Price, Utah 84501, Attn: Greens Hollow Coal Lease Tract DEIS.

Copies of the Leasing and Underground Mining of the Greens Hollow Coal Lease Tract, Sanpete and Sevier Counties, Utah are available at the Price Field Office at the above address; the Manti-La Sal National Forest—Supervisor's Office, 599 West Price River Drive, Price, Utah 84501, and the Fishlake National Forest, 115 East 900 North, Richfield, Utah 84701.

FOR FURTHER INFORMATION CONTACT: Steve Rigby, Project Manager, Price BLM Field Office at (435) 636-3604.

SUPPLEMENTARY INFORMATION: The DEIS evaluates a proposal by Ark Land Company, a subsidiary of Arch Coal, Inc., to lease and conduct underground mining of Federal coal within the 6,334 acre project area. The development plan proposal also includes two ventilation shafts, one surface mine ventilation fan and associated operational infrastructure, a new surface 69 kV powerline, and access road upgrade.

To address potential effects on the multiple resources which make up the affected environment, the BLM and the U.S. Department of Agriculture Forest Service, in coordination with cooperating agencies, have developed three alternatives in the DEIS. The alternatives include a No Action Alternative, the Proposed Action, and a third Alternative, which modifies components of the Proposed Action. The alternatives incorporate best management practices for underground coal mining and other measures necessary to adequately address impacts to geology, water resources, cultural resources, recreational opportunities, wildlife, vegetation, Threatened and Endangered Species, socioeconomics, visual resources, air quality, and other relevant issues.

Selma Sierra,
Utah State Director, BLM.
William LeVere,
Acting Deputy Regional Forester.

[FR Doc. E9-7827 Filed 4-2-09; 4:15 pm]

BILLING CODE 4310-DQ-P